Proclamation 8176 of September 12, 2007

National Farm Safety and Health Week, 2007

By the President of the United States of America

A Proclamation

America's farmers and ranchers are good stewards of our land, providing a healthy, safe, and abundant food supply for our country and for people around the world. During National Farm Safety and Health Week, we pay tribute to our farmers and ranchers and their families for their contributions to our Nation, and we raise awareness of the importance of practicing and promoting safe work habits and conditions on farms and ranches.

Making a living off the land exposes agricultural workers to many potential dangers, such as extreme weather conditions, fertilizers and chemicals, and heavy machinery. Taking steps to identify these hazards and instructing family members in safe practices will help save lives and prevent injuries. Farmers and ranchers can help avoid accidents and protect lives by staying informed, being proactive, and remaining vigilant.

Across the United States, farm and ranch communities embody the values of hard work, faith, and love of family. This week and throughout the year, we encourage farmers and ranchers to practice responsible work habits as they continue to help America remain strong and prosperous.

NOW, THEREFORE, I, GEORGE W. BUSH, President of the United States of America, by virtue of the authority vested in me by the Constitution and the laws of the United States, do hereby proclaim September 16 through September 22, 2007, as National Farm Safety and Health Week. I call upon the agencies, organizations, and businesses that serve America's agricultural workers to continue to strengthen their commitment to promoting farm safety and health programs. I also urge all Americans to honor our agricultural heritage and to recognize our farmers and ranchers for their remarkable contributions to our Nation.

IN WITNESS WHEREOF, I have hereunto set my hand this twelfth day of September, in the year of our Lord two thousand seven, and of the Independence of the United States of America the two hundred and thirty-second.

[FR Doc. 07-4640

Filed 9-14-07; 9:37 am]

Billing code 3195-01-P